DEPARTMENT OF ENERGY

Federal Energy Regulatory Commission

[Docket No. CP13-25-000; Docket No. CP13-27-000]

Cameron LNG, LLC, Cameron Interstate Pipeline, LLC; Notice of Availability of the Final Environmental Impact Statement for the Proposed Cameron Liquefaction Project

The staff of the Federal Energy Regulatory Commission (FERC or Commission) has prepared a final environmental impact statement (EIS) for the Cameron Liquefaction Project (Project), proposed by Cameron LNG, LLC and Cameron Interstate Pipeline, LLC (collectively Cameron) in the above-referenced dockets. Cameron requests authorization to construct and operate facilities to export 12 million tons of liquefied natural gas (LNG) per year from its modified terminal in Cameron and Calcasieu Parishes, Louisiana.

The final EIS assesses the potential environmental effects of the construction and operation of the Cameron Liquefaction Project in accordance with the requirements of the National Environmental Policy Act (NEPA). The FERC staff concludes that approval of the proposed Project, with the mitigation measures proposed by Cameron and recommended in the EIS, would not result in significant impacts in the Project area. Construction and operation of the Project would result in mostly temporary and short-term environmental impacts; however, some long-term and permanent environmental impacts would occur.

The U.S. Army Corps of Engineers (COE), U.S. Coast Guard, U.S. Department of Energy (DOE), and U.S. Department of Transportation (DOT) participated as cooperating agencies in the preparation of the EIS. Cooperating agencies have jurisdiction by law or special expertise with respect to resources potentially affected by the proposal and participate in the NEPA analysis. The COE and DOE will adopt and use the EIS in issuing their respective permits. The U.S. Coast Guard and DOT cooperated in the preparation of this EIS because of their special expertise with respect to resources potentially affected by the proposal. Although the cooperating agencies provided input to the conclusions and recommendations presented in the EIS, the agencies will present their own conclusions and recommendations in their respective Records of Decision or determinations for the Project.

The Project would use the facilities at the existing Cameron LNG Terminal, including the existing berthing facilities and LNG storage tanks, as well as the existing Cameron Interstate Pipeline. Operation of the Project would not increase LNG marine carrier traffic beyond that previously authorized for the existing Cameron LNG Terminal. The final EIS addresses the potential environmental effects of the construction and operation of the following Project facilities:

• Three separate systems that liquefy natural gas, each capable of producing 4.99 million metric tons per year of LNG for export;

• a 160,000-cubic-meter, full containment LNG storage tank;

• refrigerant make-up and condensate product storage tanks;

• a truck loading/unloading area;

• a marine work dock for delivery of equipment and construction materials;

• minor modifications to existing terminal facilities;

• 21 miles of 42-inch-diameter pipeline;

• a 56,820-horsepower compressor station; and

• ancillary facilities.

The FERC staff mailed copies of the EIS to federal, state, and local government representatives and agencies; elected officials; environmental and public interest groups; Native American tribes; potentially affected landowners and other interested individuals and groups; newspapers and libraries in the Project area; and parties to this proceeding. Everyone on our environmental mailing list will receive a CD version of the final EIS. In addition, the EIS is available for public viewing on the FERC's Web site (www.ferc.gov) using the eLibrary link. A limited number of copies are available for distribution and public inspection at: Federal Energy Regulatory Commission, Public Reference Room, 888 First Street NE., Room 2A, Washington, DC 20426, (202) 502-8371.

Questions?

Additional information about the Project is available from the Commission's Office of External Affairs, at (866) 208-FERC, or on the FERC Web site (www.ferc.gov) using the eLibrary link. Click on the eLibrary link, click on “General Search,” and enter the docket number excluding the last three digits in the Docket Number field (i.e., CP13-25 or CP13-27). Be sure you have selected an appropriate date range. For assistance, please contact FERC Online Support at FercOnlineSupport@ferc.gov or toll free at (866) 208-3676; for TTY, contact (202) 502-8659. The eLibrary link also provides access to the texts of formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. Go to http://www.ferc.gov/docs-filing/esubscription.asp.

Dated: April 30, 2014.
Kimberly D. Bose,
Secretary.

[FR Doc. 2014-10420 Filed 5-6-14; 8:45 am]

BILLING CODE 6717-01-P